GENERAL ACCOUNTING OFFICE

Advisory Council on Government Auditing Standards; Notice of Meeting

The Advisory Council on Government Auditing Standards will meet Monday, November 19, 2001 from 8:30 a.m. to 5:00 p.m., in room 7C13 of the General Accounting Office building, 441 G Street, NW., Washington, DC.

The Advisory Council on Government Auditing Standards will hold a meeting to discuss issues that may impact government auditing standards. The meeting is open to the public. Any interested person who plans to attend the meeting as an observer should present a copy of this meeting notice and a form of picture identification to the GAO Security Desk on the day of the meeting to obtain access to the GAO Building. Council discussions and reviews are open to the public. Members of the public will be provided an opportunity to address the Council with a brief (five minute) presentation on Monday afternoon.

For further information or to notify the Council you plan to attend the meeting, please contact Jennifer Allison, Council Assistant, 202-512-3423. Please check the Government Auditing Standards web page (www.gao.gov/govaud/ybk01.htm) one week prior to the meeting for a final agenda.

Marcia B. Buchanan,
Assistant Director.

[FR Doc. 01-27664 Filed 11-2-01; 8:45 am]

BILLING CODE 1610-02-M